FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 010099-064.

Title: International Council of Containership Operators.

Parties: Maersk Line A/S; CMA CGM, S.A.; China COSCO Shipping Corporation Limited; Crowley Maritime Corp.; Evergreen Marine Corporation (Taiwan), Ltd.; Hamburg-Süd KG; Hapag-Lloyd AG and Hapag-Lloyd USA LLC; Hyundai Merchant Marine Co., Ltd.; Kawasaki Kisen Kaisha, Ltd.; MSC Mediterranean Shipping Company S.A.; Mitsui O.S.K. Lines, Ltd.; Nippon Yusen Kaisha; Orient Overseas Container Line, Ltd.; Pacific International Lines (Pte) Ltd.; United Arab Shipping Company (S.A.G.); Wan Hai Lines Ltd.; Yang Ming Transport Marine Corp.; and Zim Integrated Shipping Services Ltd.

Filing Party: John Longstreth, Esq.; K & L Gates LLP; 1601 K Street NW., Washington, DC 20006-1600.

Synopsis: The amendment deletes Hanjin Shipping Co., Ltd. as a party to the Agreement.

Agreement No.: 012129-002.

Title: EUKOR/”K” Line Space Charter Agreement.

Parties: EUKOR Car Carriers, Inc. and Kawasaki Kisen Kaisha, Ltd.

Filing Party: John P. Meade, Esq.; Vice-President; K- Line America, Inc.; 6009 Bethlehem Road; Preston, MD 21655.

Synopsis: The amendment adds the Dominican Republic, Grand Cayman, St. Maarten, Haiti, and the Bahamas to the geographic scope of the Agreement.

Agreement No.: 012395-001.

Title: MSC/ACL Trans-Atlantic Space Charter.

Parties: Atlantic Container Line A.B. and MSC Mediterranean Shipping Company S.A.

Filing Party: Wayne R. Rohde, Esq.; Cozen O'Connor LLP; 1200 Nineteenth St. NW., Washington, DC 20036.

Synopsis: The amendment extends the duration of the Agreement for one year.

Agreement No.: 012439.

Title: THE Alliance Agreement.

Parties: Hapag-Lloyd AG and Hapag-Lloyd USA LLC (acting as one party); Kawasaki Kisen Kaisha, Ltd.; Mitsui O.S.K. Lines, Ltd.; Nippon Yusen Kaisha; and Yang Ming Marine Transport Corp.

Filing Party: David F. Smith, Esq.; Cozen O'Conner; 1200 Nineteenth Street NW., Washington, DC 20036.

Synopsis: The Agreement authorizes the Parties to charter and exchange space on one another's vessels and to rationalize, coordinate and cooperate with respect to the Parties' transportation services and operations.

By Order of the Federal Maritime Commission.
Dated: November 7, 2016.
Rachel E. Dickon,
Assistant Secretary.

[FR Doc. 2016-27185 Filed 11-9-16; 8:45 am]

BILLING CODE 6731-AA-P